DEPARTMENT OF TRANSPORTATION

Coast Guard

33 CFR Part 100

[CGD08-01-012]

RIN 2115-AE46

Marine Events & Regattas; Annual Marine Events in the Eighth Coast Guard District

AGENCY: Coast Guard, DOT.

ACTION: Final rule.

SUMMARY: The Coast Guard is establishing and modifying various annually recurring marine events throughout the Eighth Coast Guard District. This action is necessary to provide for the safety of life on navigable waters during the events. This action is intended to control vessel traffic in portions of the waterways of the Eighth District in conjunction with these marine events.

DATES: This final rule is effective March 25, 2002.

ADDRESSES: Comments and material received from the public, as well as documents indicated in this preamble as being available in the docket, are part of docket [CGD08-01-012] and are available for inspection or copying at room 1311, Hale Boggs Federal Building, New Orleans, Louisiana, between 8 a.m. and 3 p.m., Monday through Friday, except Federal holidays.

FOR FURTHER INFORMATION CONTACT: Lieutenant Commander David Nichols, Eighth Coast Guard District Legal Office, (504) 589-6188.

SUPPLEMENTARY INFORMATION:

Regulatory History

On September 17, 2001, we published a notice of proposed rulemaking (NPRM) entitled “Marine Events and Regattas; Annual Marine Events in the Eighth Coast Guard District” in the Federal Register. We received one e-mail and no letters commenting on the proposed rule. No public hearing was requested, and none was held.

Background and Purpose

The Coast Guard is establishing various annually recurring marine events and modifying some of the existing marine event regulations throughout the Eighth Coast Guard District. Establishing permanent marine event regulations and modifying some of the existing marine event regulations by notice and comment rulemaking gave the public an opportunity to comment on these proposed regulations. The Coast Guard has received no prior notice of any impact caused by the previous events. The new or modified marine event regulations are as follows:

Independence Day Fireworks, Mobile, AL

The regulated area for this event is from the shore of the east bank out 500 feet into the Mobile River between latitudes 30 degrees 41 minutes 20 seconds North and 30 degrees 41 minutes 15 seconds North. The Mobile Register will sponsor the one-day event that will occur on the 4th of July.

Blue Angels Air Show, Pensacola, FL

The regulated area for this event is a five nautical mile radius from a center point located 1,500 feet from the Pensacola Beach water tower in a direction perpendicular to the beachfront. Naval Air Station Pensacola, Florida will sponsor the two-day event that will occur on the 2nd weekend in July.

Fort-to-Fort Swim, Pensacola, FL

The regulated area for this event is in the Gulf Intracoastal Waterway at Pensacola, Florida from the Fort Pickens pier to Barrancas Beach, crossing the Gulf Intracoastal Waterway at statute mile 180 between buoys 13, 14, 15, and 16. The one-day event will occur on the 1st weekend in August.

Keesler Air Force Base Air Show, Biloxi, MS

The regulated area for this event is bounded by the following coordinates: (1) Latitude 30 degrees, 24 minutes, 36 seconds North, longitude 088 degrees, 56 minutes, 00 seconds West; (2) latitude 30 degrees, 25 minutes, 30 seconds North, longitude 088 degrees, 55 minutes, 20 seconds West; (3) latitude 30 degrees, 25 minutes, 10 seconds North, longitude 088 degrees, 54 minutes, 55 seconds West. Keesler Air Force Base, Biloxi, Mississippi, will sponsor the two-day event that will occur on the 1st weekend in November.

Annual Krewe of Billy Bowlegs Pirate Festival, Okaloosa County, FL

The regulated area for this event is Santa Rosa Sound, east of the Brooks Bridge to Fort Walton Yacht Club at Smack Point on the western end of Choctowatchee Bay and Cinco Bayou. The Krewe of Billy Bowlegs of Okaloosa County, Inc. will sponsor the two-day event that will occur on the 1st weekend in June.

East-West Powerboat Shootout, Corpus Christi, TX

The regulated area for this event is the waters of Corpus Christi Bay adjacent to the Corpus Christi downtown area bounded by the following coordinates: (1) Latitude 27 degrees, 49 minutes, 24 seconds North, longitude 097 degrees, 23 minutes, 00 seconds West; (2) latitude 27 degrees, 49 minutes, 24 seconds North, longitude 097 degrees, 21 minutes, 22 seconds West; (3) latitude 27 degrees, 45 minutes, 00 seconds North, longitude 097 degrees, 23 minutes, 00 seconds West; (4) latitude 27 degrees, 45 minutes, 00 seconds North, longitude 097 degrees, 21 minutes, 22 seconds West. EM Marketing Company, Inc. and the Corpus Christi Offshore Racing Association will sponsor the two-day event that will occur on the 1st or 2nd weekend in June.

Rubber Ducky Derby, Beaumont, TX

The regulated area for this event is on the Neches River from the Trinity Industries Dry Dock to the northeast corner of the Port of Beaumont's dock number 5. C P Rehabilitation Center will sponsor the event which will occur on the 2nd, 3rd, or 4th Saturday in April.

Port Arthur Fourth of July Firework Demonstration, Port Arthur, TX

The regulated area for this event is on the waters of the Sabine-Neches Canal from Wilson Middle School to the northern terminus of Old Golf Course Road. The event is sponsored by the City of Port Arthur and Lamar State College and will occur on the Fourth of July.

Neches River Festival, Beaumont, TX

The date is amended to read “two days beginning on the 2nd, 3rd, or 4th weekend in April.”

Annual Labor Day Fireworks

The regulated area is amended to read “Destin East Pass between and including buoys 5 to 11, Destin, FL”.

Independence Day Fireworks, Destin, FL

The regulated area is amended to read “Destin East Pass between and including buoys 5 to 11, Destin, FL”.

Discussion of Comments and Changes

We received one e-mail from Marine Safety Office Port Arthur notifying us that there was a minor error in the listing for the Rubber Ducky Derby. The NPRM stated that the event is to occur on the “2nd, 3rd, and 4th Saturday in April.” The correct language should be “2nd, 3rd, or 4th Saturday in April.” We changed the proposed regulation to reflect the correct language. No other comments were received.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary.

Although these marine events will restrict vessel traffic from transiting certain areas of Eighth Coast Guard District waters, the effect of this regulation will not be significant due to the limited duration that the regulated areas will be in effect and the advance notification that will be made to the maritime community through the Federal Register. These regulations have been narrowly tailored to impose the least impact on maritime interests yet provide the level of safety deemed necessary.

Collection of Information

This rule calls for no new collection of information under the Paperwork Reduction Act of 1995 (44 U.S.C. 3501-3520.).

Federalism

We have analyzed this rule under E.O. 13132 and have determined that this rule does not have implications for federalism under that Order.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Assistance for Small Entities

Under section 213(a) of the Small Business Regulatory Enforcement Fairness Act of 1996 (Pub. L. 104-121), we offered to assist small entities in understanding the rule so that they can better evaluate its effects on them and participate in the rulemaking.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environmental

We have considered the environmental impact of this rule and concluded that, under figure 2-1, paragraph 34(g), of Commandant Instruction M16475.1D, this rule is categorically excluded from further environmental documentation. This rule fits paragraph 34(g) as it establishes and/or amends annual marine event regulations. A “Categorical Exclusion Determination” is available in the docket where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 100

Marine Safety, Navigation (water), Reporting and recordkeeping requirements, Waterways.

For the reasons discussed in the preamble, the Coast Guard amends 33 CFR part 100 as follows:

PART 100—REGATTAS AND MARINE PARADES

1. The authority citation for part 100 continues to read as follows:

Authority: 33 U.S.C. 1233 through 1236; 49 CFR 1.46; 33 CFR 100.35.

2. Amend Table 1 of § 100.801 by as follows:

a. The seven “Groups” identified in Table 1 are designated as units I through VII, respectively, as set out below;

b. In newly designated unit IV, revise entries 8. for Independence Day Fireworks, Destin, FL, and 16. for Annual Labor Day Fireworks, Destin, FL, and add entries 18-22. for Independence Day Fireworks, Mobile, AL; Blue Angels Air Show, Pensacola, FL; Fort-to-Fort Swim, Pensacola, FL; Keesler Air Force Base Air Show, Biloxi, MS; and Annual Krewe of Billy Bowlegs Pirate Festival, Okaloosa County, FL, and as set out below;

c. In newly designated unit VI, revise entry 1. for Neches River Festival, Beaumont, TX as set out below;

d. At the end of newly designated unit VII, add entry 8. for East-West Powerboat Shootout, Corpus Christi, TX as set out below;

e. Add new unit VIII Marine Safety Office Port Arthur to include the entries Rubber Ducky Derby, Beaumont, TX, and Port Arthur Fourth of July Firework Demonstration, Port Arthur, TX as set out below.

The revisions and additions read as follows:

§ 100.801 Annual Marine Events in the Eighth Coast Guard District.

* * * * *

Table 1 of § 100.801

I. Group Upper Mississippi River

* * * * *

II. Group Ohio Valley

* * * * *

III. Group Lower Mississippi River

* * * * *

IV. Group Mobile

* * * * *

8. Independence Day Fireworks, Destin, FL

Sponsor: City of Destin, FL.

Date: 1 Day—4th of July.

Regulated Area: Destin East Pass between and including buoys 5 to 11, Destin, FL.

* * * * *

16. Annual Labor Day Fireworks

Sponsor: City of Destin, FL.

Date: 1 Day—Day of or Day before Labor Day.

Regulated Area: Destin East Pass between and including buoys 5 to 11, Destin, FL.

* * * * *

18. Independence Day Fireworks, Mobile, AL

Sponsor: The Mobile Register.

Date: 1 Day—4th of July.

Regulated Area: From the shore of the east bank out 500 feet into the Mobile River between latitudes 30 degrees 41 minutes 20 seconds North and 30 degrees 41 minutes 15 seconds North.

19. Blue Angels Air Show, Pensacola, FL

Sponsor: Naval Air Station Pensacola, FL.

Date: 2 Days—2nd weekend in July.

Regulated Area: A five nautical mile radius from a center point located 1,500 feet from the Pensacola Beach water tower in a direction perpendicular to the beachfront.

20. Fort-to-Fort Swim, Pensacola, FL

Sponsor: Naval Air Station Pensacola, FL.

Date: 1 Day—1st weekend in August.

Regulated Area: Fort Pickens pier to Barrancas Beach, crossing the Gulf Intracoastal Waterway at statute mile 180 between buoys 13, 14, 15, and 16.

21. Keesler Air Force Base Air Show, Biloxi, MS

Sponsor: Keesler Air Force Base, Biloxi, MS.

Date: 2 Days—1st weekend in November.

Regulated Area: Bounded by the following coordinates: (1) Latitude 30 degrees, 24 minutes, 36 seconds North, longitude 088 degrees, 56 minutes, 00 seconds West; (2) latitude 30 degrees, 25 minutes, 30 seconds North, longitude 088 degrees, 55 minutes, 20 seconds West; (3) latitude 30 degrees, 25 minutes, 10 seconds North, longitude 088 degrees, 54 minutes, 55 seconds West.

22. Annual Krewe of Billy Bowlegs Pirate Festival, Okaloosa County, FL

Sponsor: The Krewe of Billy Bowlegs of Okaloosa County, Inc.

Date: 2 Days—1st weekend in June.

Regulated Area: Santa Rosa Sound, east of the Brooks Bridge to Fort Walton Yacht Club at Smack Point on the western end of Choctowatchee Bay and Cinco Bayou.

* * * * *

V. Group New Orleans

* * * * *

VI. Group Galveston

1. Neches River Festival, Beaumont, TX

Sponsor: Neches River Festival, Inc.

Date: 2 Days—2nd, 3rd, or 4th Weekend in April.

Regulated Area: Neches River from Collier's Ferry Landing to Lawson's Crossing at the end of Pine St., Beaumont, TX.

* * * * *

VII. Group Corpus Christi

* * * * *

8. East-West Powerboat Shootout, Corpus Christi, TX

Sponsor: EM Marketing Company, Inc. and the Corpus Christi Offshore Racing Association.

Date: 2 Days—1st or 2nd weekend in June.

Regulated Area: Bounded by the following coordinates: (1) Latitude 27 degrees, 49 minutes, 24 seconds North, longitude 097 degrees, 23 minutes, 00 seconds West; (2) latitude 27 degrees, 49 minutes, 24 seconds North, longitude 097 degrees, 21 minutes, 22 seconds West; (3) latitude 27 degrees, 45 minutes, 00 seconds North, longitude 097 degrees, 23 minutes, 00 seconds West; (4) latitude 27 degrees, 45 minutes, 00 seconds North, longitude 097 degrees, 21 minutes, 22 seconds West.

VIII. Marine Safety Office Port Arthur

1. Rubber Ducky Derby, Beaumont, TX

Sponsor: C P Rehabilitation Center.

Date: 1 Day—2nd, 3rd, or 4th Saturday in April.

Regulated Area: All waters of the Neches River, bank to bank, from the Trinity Industries Dry Dock to the northeast corner of the Port of Beaumont's dock number 5.

2. Port Arthur Fourth of July Firework Demonstration, Port Arthur, TX

Sponsor: The City of Port Arthur and Lamar State College.

Date: 1 Day—4th of July.

Regulated Area: All waters of the Sabine-Neches Canal, bank to bank, from Wilson Middle School to the northern terminus of Old Golf Course Road.

Dated: February 7, 2002.
Roy J. Casto,
Rear Admiral, U.S. Coast Guard, Commander, Eighth Coast Guard District.

[FR Doc. 02-4086 Filed 2-21-02; 8:45 am]

BILLING CODE 4910-15-U